DEPARTMENT OF AGRICULTURE

Office of the Secretary

USDA Increases the Fiscal Year 2017 Raw Sugar Tariff-Rate Quota

AGENCY: Office of the Secretary, USDA.

ACTION: Notice.

SUMMARY: The Office of the Secretary of the U.S. Department of Agriculture is providing notice of an increase in the fiscal year (FY) 2017 raw cane sugar tariff-rate quota (TRQ) of 244,690 metric tons raw value (MTRV).

DATES: Applicable July 25, 2017.

FOR FURTHER INFORMATION CONTACT: Souleymane Diaby, Import Policies and Export Reporting Division, Foreign Agricultural Service, AgStop 1021, U.S. Department of Agriculture, Washington, DC 20250-1021; or by telephone (202) 720-2916; or by fax to (202) 720-8461; or by email to Souleymane.Diaby@fas.usda.gov.

SUPPLEMENTARY INFORMATION: The Office of the Secretary of the U.S. Department of Agriculture is providing notice of an increase in the fiscal year (FY) 2017 raw cane sugar tariff-rate quota (TRQ) of 244,690 MTRV. On May 6, 2016, the Office of the Secretary established the FY 2017 TRQ for raw cane sugar at 1,117,195 MTRV (1,231,497 short tons raw value, STRV *), the minimum to which the United States is committed under the World Trade Organization (WTO) Uruguay Round Agreements. Pursuant to Additional U.S. Note 5 to Chapter 17 of the U.S. Harmonized Tariff Schedule (HTS) and Section 359k of the Agricultural Adjustment Act of 1938, as amended, the Secretary of Agriculture gives notice of an increase in the quantity of raw cane sugar eligible to enter at the lower rate of duty during FY 2017 by 244,690 MTRV (269,724 STRV). With this increase, the overall FY 2017 raw sugar TRQ is now 1,361,885 MTRV (1,501,221 STRV). Raw cane sugar under this quota must be accompanied by a certificate for quota eligibility and may be entered until September 30, 2017. The Office of the U.S. Trade Representative will allocate this increase among supplying countries and customs areas.

USDA also today announced that all sugar entering the United States under the FY 2017 raw sugar TRQ will be permitted to enter U.S. Customs territory through October 31, 2017, a month later than the usual last entry date. Additional U.S. Note 5(a)(iv) to Chapter 17 of the HTS authorizes the Secretary of Agriculture to permit sugar allocated under a given quota year to be entered in previous or subsequent quota year.

This action is being taken after a determination that additional supplies of raw cane sugar are required in the U.S. market. USDA will closely monitor stocks, consumption, imports and all sugar market and program variables on an ongoing basis, and may make further program adjustments during FY 2017 if needed.

* Conversion factor: 1 metric ton = 1.10231125 short tons.

Jason Hafemeister,
Acting Deputy Under Secretary, Trade and Foreign Agricultural Affairs.
Dated: July 17, 2017.
Robert Johannson,
Acting Under Secretary, Farm Production and Conservation.

[FR Doc. 2017-15572 Filed 7-24-17; 8:45 am]

BILLING CODE 3410-10-P